ENVIRONMENTAL PROTECTION AGENCY

40 CFR Parts 60, 61, and 63

[FRL-6577-1]

Standards of Performance for New Stationary Sources (NSPS) and National Emission Standards for Hazardous Air Pollutants (NESHAP); Delegation of Authority to the States of Iowa; Kansas; Missouri; Nebraska; Lincoln-Lancaster County, NE; and City of Omaha, NE

AGENCY: Environmental Protection Agency (EPA).

ACTION: Final rule and delegation of authority.

SUMMARY: The states of Iowa, Kansas, Missouri, Nebraska, and the local agencies of Lincoln-Lancaster County, Nebraska, and city of Omaha, Nebraska, have submitted updated regulations for delegation of the EPA authority for implementation and enforcement of NSPS and NESHAP. The submissions cover new EPA standards and, in some instances, revisions to standards previously delegated. EPA's review of the pertinent regulations shows that they contain adequate and effective procedures for the implementation and enforcement of these Federal standards. This action informs the public of delegations to the above-mentioned agencies.

DATES: This rule is effective on May 18, 2000. The dates of delegation can be found in the SUPPLEMENTARY INFORMATION; section of this document.

ADDRESSES: Copies of the documents relevant to this action are available for public inspection during normal business hours at the Environmental Protection Agency, Air Planning and Development Branch, 901 North 5th Street, Kansas City, Kansas 66101.

Effective immediately, all notifications, applications, reports, and other correspondence required pursuant to the newly delegated standards and revisions identified in this notice should be submitted to the Region 7 office, and, with respect to sources located in the jurisdictions identified in this notice, to the following addresses:

Iowa Department of Natural Resources, Air Quality Bureau, 7900 Hickman Road, Urbandale, Iowa 50322.

Kansas Department of Health and Environment, Bureau of Air Quality and Radiation, Building 283, Forbes Field, Topeka, Kansas 66620.

Missouri Department of Natural Resources, Air Pollution Control Program, Jefferson State Office Building, P.O. Box 176, Jefferson City, Missouri 65102.

Nebraska Department of Environmental Quality, Air and Waste Management Division, P.O. Box 98922, Statehouse Station, Lincoln, Nebraska 68509.

Lincoln-Lancaster County Air Pollution Control Agency, Division of Environmental Health, 3140 “N” Street, Lincoln, Nebraska 68510.

City of Omaha, Public Works Department, Air Quality Control Division, 5600 South 10th Street, Omaha, Nebraska 68510.

FOR FURTHER INFORMATION CONTACT: Wayne Kaiser, Environmental Protection Agency, Air Planning and Development Branch, 901 North 5th Street, Kansas City, Kansas 66101, (913) 551-7603.

SUPPLEMENTARY INFORMATION: The supplementary information is organized in the following order:

What does this rule do?

What is the authority for delegation?

What does delegation accomplish?

What is being delegated?

What is not being delegated?

List of Delegation Tables

Table I—NSPS, 40 CFR Part 60

Table II—NESHAPS, 40 CFR Part 61

Table III—NESHAPS, 40 CFR Part 63

Summary of this action

What Does This Rule Do?

EPA is providing notice that it is delegating authority for implementation and enforcement of the Federal standards shown in the tables below to the state and local air agencies in Region 7. This rule updates the delegation tables most recently published at 63 FR 1746 (January 12, 1998.)

Section 553(b)(B) of the Administrative Procedures Act (APA) provides that an agency may forgo notice-and-comment rulemaking upon determination of “good cause” published with the rule. EPA considers these updates to be minor changes which are not subject to notice-and-comment rulemaking procedures under the APA or any other statute.

What Is the Authority for Delegation?

1. Section 111(c)(1) of the Clean Air Act (CAA) authorizes EPA to delegate authority to any state agency which submits adequate regulatory procedures for implementation and enforcement of the NSPS program. The NSPS standards are codified at 40 CFR Part 60.

2. Section 112(l) of the CAA and 40 CFR Part 63, subpart E, authorizes EPA to delegate authority to any state or local agency which submits adequate regulatory procedures for implementation and enforcement of emission standards for hazardous air pollutants. The hazardous air pollutant standards are codified at 40 CFR Parts 61 and 63, respectively.

What Does Delegation Accomplish?

Delegation confers primary responsibility for implementation and enforcement of the listed standards to the respective state and local air agencies. However, EPA also retains the authority to enforce the standards if it so desires.

What Is Being Delegated?

Tables I, II, and III below list the delegated standards. The first date in each block is the reference date to the CFR contained in the state rule. In general, the state has adopted the applicable standard through this date as noted in the table. The second date is the most recent effective date of the state agency rule for which EPA is providing or updating the delegation.

What Is Not Being Delegated?

1. EPA regulations effective after the first date specified in each block have not been delegated, and authority for implementation of these regulations is retained solely by EPA.

2. In some cases, the standards themselves specify that specific provisions cannot be delegated. You should review the standard for this information.

3. In some cases, the agency rules do not adopt the Federal standard in its entirety. Each agency rule (available from the respective agency) should be consulted for specific information.

4. In some cases, existing delegation agreements between EPA and the agencies limit the scope of the delegated standards. Copies of delegation agreements are available from the state agencies, or from this office.

5. With respect to 40 CFR Part 63, subpart A, General Provisions (see Table III), EPA has determined that sections 63.6(g), 63.6(h)(9), 63.7(e)(2)(ii) and (f), 63.8(f), and 63.10(f) cannot be delegated. Additional information is contained in an EPA memorandum titled “Delegation of 40 CFR Part 63 General Provisions Authorities to State and Local Air Pollution Control Agencies' from John Seitz, Director, Office of Air Quality Planning and Standards, dated July 10, 1998.

List of Delegation Tables

Table I.—Delegation of Authority—Part 60 NSPS—Region 7
Subpart | Source category | State of Iowa | State of Kansas | State of Missouri | State of Nebraska
A | General Provisions | 11/24/98 12/23/98 | 07/01/98 06/11/99 | 12/31/98 03/30/00 | 07/01/97 12/15/98
D | Fossil-Fuel Fired Steam Generators for Which Construction is Commenced After August 17, 1971 | 11/24/98 12/23/98 | 07/01/98 06/11/99 | 12/31/98 03/30/00 | 07/01/97 12/15/98
Da | Electric Utility Steam Generating Units for Which Construction is Commenced After September 18, 1978 | 11/24/98 12/23/98 | 07/01/98 06/11/99 | 12/31/98 03/30/00 | 07/01/97 12/15/98
Db | Industrial-Commercial-Institutional Steam Generating Units | 11/24/98 12/23/98 | 07/01/98 06/11/99 | 12/31/98 03/30/00 | 07/01/97 12/15/98
Dc | Small Industrial-Commercial-Institutional Steam Generating Units | 11/24/98 12/23/98 | 07/01/98 06/11/99 | 12/31/98 03/30/00 | 07/01/97 12/15/98
E | Incinerators | 11/24/98 12/23/98 | 07/01/98 06/11/99 | 12/31/98 03/30/00 | 07/01/97 12/15/98
Ea | Municipal Waste Combustors Constructed after December 20, 1989, and on or before September 20 1994 | 11/24/98 12/23/98 | 07/01/98 06/11/99 | 12/31/98 02/28/96 | 07/01/97 12/15/98
Eb | Municipal Waste Combustors for Which Construction is Commenced after September 20, 1994 | 11/24/98 12/23/98 | 07/01/98 06/11/99 | 12/31/98 03/20/00 | 07/01/96 12/15/98
Ec | Hospital/medical/infectious Waste Incinerators for Which Construction Commenced after June 20, 1996 | 11/24/98 12/23/98 | 07/01/98 06/11/99 | 12/31/98 03/20/00 | 11/24/98 12/15/98
F | Portland Cement Plants | 11/24/98 12/23/98 | 07/01/98 06/11/99 | 12/31/98 03/30/00 | 07/01/97 12/15/98
G | Nitric Acid Plants | 11/24/98 12/23/98 | 07/01/98 06/11/99 | 12/31/98 03/30/00 | 07/01/97 12/15/98
H | Sulfuric Acid Plants | 11/24/98 12/23/98 | 07/01/98 06/11/99 | 12/31/98 03/30/00 | 07/01/97 12/15/98
I | Asphaltic Concrete Plants | 11/24/98 12/23/98 | 07/01/98 06/11/99 | 12/31/98 03/30/00 | 07/01/97 12/15/98
J | Petroleum Refineries | 11/24/98 12/23/98 | 07/01/98 06/11/99 | 12/31/98 03/30/00 | 07/01/97 12/15/98
K | Storage Vessels for Petroleum Liquid for Which Construction, Reconstruction, or Modification Commenced After June 11, 1973, and Prior to May 19, 1978 | 11/24/98 12/23/98 | 07/01/98 06/11/99 | 12/31/98 03/30/00 | 07/01/97 12/15/98
Ka | Storage Vessels for Petroleum Liquid for Which Construction, Reconstruction, or Modification Commenced After May 18, 1978, and Prior to July 23, 1984 | 11/24/98 12/23/98 | 07/01/98 06/11/99 | 12/31/98 03/30/00 | 07/01/97 12/15/98
Kb | Volatile Organic Liquid Storage Vessels for Which Construction, Reconstruction, or Modification Commenced After July 23, 1984 | 11/24/98 12/23/98 | 07/01/98 06/11/99 | 12/31/98 03/30/00 | 07/01/97 12/15/98
L | Secondary Lead Smelters | 11/24/98 12/23/98 | 07/01/98 06/11/99 | 12/31/98 03/30/00 | 07/01/97 12/15/98
M | Brass and Bronze Production Plants | 11/24/98 12/23/98 | 07/01/98 06/11/99 | 12/31/98 03/30/00 | 07/01/97 12/15/98
N | Basic Oxygen Process Furnaces for Which Construction is Commenced After June 11, 1973 | 11/24/98 12/23/98 | 07/01/98 06/11/99 | 12/31/98 03/30/00 | 07/01/97 12/15/98
Na | Basic Oxygen Process Steelmaking Facilities for Which Construction is Commenced After January 20, 1983 | 11/24/98 12/23/98 | 07/01/98 06/11/99 | 12/31/98 03/30/00 | 07/01/97 12/15/98
O | Sewage Treatment Plants | 11/24/98 12/23/98 | 07/01/98 06/11/99 | 12/31/98 03/30/00 | 07/01/97 12/15/98
P | Primary Copper Smelters | 11/24/98 12/23/98 | 07/01/98 06/11/99 | 12/31/98 03/30/00 | 07/01/97 12/15/98
Q | Primary Zinc Smelters | 11/24/98 12/23/98 | 07/01/98 06/11/99 | 12/31/98 03/30/00 | 07/01/97 12/15/98
R | Primary Lead Smelters | 11/24/98 12/23/98 | 07/01/98 06/11/99 | 12/31/98 03/30/00 | 07/01/97 12/15/98
S | Primary Aluminum Reduction Plants | 11/24/98 12/23/98 | 07/01/98 06/11/99 | 12/31/98 03/30/00 | 07/01/97 12/15/98
T | Wet Process Phosphoric Acid Plants | 11/24/98 12/23/98 | 07/01/98 06/11/99 | 12/31/98 03/30/00 | 07/01/97 12/15/98
U | Superphosphoric Acid Plants | 11/24/98 12/23/98 | 07/01/98 06/11/99 | 12/31/98 03/30/00 | 07/01/97 12/15/98
V | Diammonium Phosphate Plants | 11/24/98 12/23/98 | 07/01/98 06/11/99 | 12/31/98 03/30/00 | 07/01/97 12/15/98
W | Triple Superphosphate Plants | 11/24/98 12/23/98 | 07/01/98 06/11/99 | 12/31/98 03/30/00 | 07/01/97 12/15/98
X | Granular Triple Superphosphate Storage Facilities | 11/24/98 12/23/98 | 07/01/98 06/11/99 | 12/31/98 03/30/00 | 07/01/97 12/15/98
Y | Coal Preparation Plants | 11/24/98 12/23/98 | 07/01/98 06/11/99 | 12/31/98 03/30/00 | 07/01/97 12/15/98
Z | Ferroalloy Production Facilities | 11/24/98 12/23/98 | 07/01/98 06/11/99 | 12/31/98 03/30/00 | 07/01/97 12/15/98
AA | Steel Plant Electric Arc Furnaces Constructed After October 21, 1974, and on or Before August 17, 1983 | 11/24/98 12/23/98 | 07/01/98 06/11/99 | 12/31/98 03/30/00 | 07/01/97 12/15/98
AAa | Steel Plant Electric Arc Furnaces and Argon-Oxygen Decarburization Vessels Constructed After August 7, 1983 | 11/24/98 12/23/98 | 07/01/98 06/11/99 | 12/31/98 03/30/00 | 07/01/97 12/15/98
BB | Kraft Pulp Mills | 11/24/98 12/23/98 | 07/01/98 06/11/99 | 12/31/98 03/30/00 |
CC | Glass Manufacturing Plants | 11/24/98 12/23/98 | 07/01/98 06/11/99 | 12/31/98 03/30/00 | 07/01/97 12/15/98
DD | Grain Elevators | 11/24/98 12/23/98 | 07/01/98 06/11/99 | 12/31/98 03/30/00 | 07/01/97 12/15/98
EE | Surface Coating of Metal Furniture | 11/24/98 12/23/98 | 07/01/98 06/11/99 | 12/31/98 03/30/00 | 07/01/97 12/15/98
GG | Stationary Gas Turbines | 11/24/98 12/23/98 | 07/01/98 06/11/99 | 12/31/98 03/30/00 | 07/01/97 12/15/98
HH | Lime Manufacturing Plants | 11/24/98 12/23/98 | 07/01/98 06/11/99 | 12/31/98 03/30/00 | 07/01/97 12/15/98
KK | Lead-Acid Battery Manufacturing Plants | 11/24/98 12/23/98 | 07/01/98 06/11/99 | 12/31/98 03/30/00 | 07/01/97 12/15/98
LL | Metallic Mineral Processing Plants | 11/24/98 12/23/98 | 07/01/98 06/11/99 | 12/31/98 03/30/00 | 07/01/97 12/15/98
MM | Auto and Light-Duty Truck Surface Coating Operations | 11/24/98 12/23/98 | 07/01/98 06/11/99 | 12/31/98 03/30/00 | 07/01/97 12/15/98
NN | Phosphate Rock Plants | 11/24/98 12/23/98 | 07/01/98 06/11/99 | 12/31/98 03/30/00 | 07/01/97 12/15/98
PP | Ammonium Sulfate Manufacture | 11/24/98 12/23/98 | 07/01/98 06/11/99 | 12/31/98 03/30/00 | 07/01/97 12/15/98
QQ | Graphic Arts Industry: Publication Rotogravure Printing | 11/24/98 12/23/98 | 07/01/98 06/11/99 | 12/31/98 03/30/00 | 07/01/97 12/15/98
RR | Pressure Sensitive Tape and Label Surface Coating Operations | 11/24/98 12/23/98 | 07/01/98 06/11/99 | 12/31/98 03/30/00 | 07/01/97 12/15/98
SS | Industrial Surface Coating: Large Appliances | 11/24/98 12/23/98 | 07/01/98 06/11/99 | 12/31/98 03/30/00 | 07/01/97 12/15/98
TT | Metal Coil Surface Coating | 11/24/98 12/23/98 | 07/01/98 06/11/99 | 12/31/98 03/30/00 | 07/01/97 12/15/98
UU | Asphalt Processing and Asphalt Roofing Manufacture | 11/24/98 12/23/98 | 07/01/98 06/11/99 | 12/31/98 03/30/00 | 07/01/97 12/15/98
VV | SOCMI Equipment Leaks (VOC) | 11/24/98 12/23/98 | 07/01/98 06/11/99 | 12/31/98 03/30/00 | 07/01/97 12/15/98
WW | Beverage Can Surface Coating Industry | 11/24/98 12/23/98 | 07/01/98 06/11/99 | 12/31/98 03/30/00 | 07/01/97 12/15/98
XX | Bulk Gasoline Terminals | 11/24/98 12/23/98 | 07/01/98 06/11/99 | 12/31/98 03/30/00 | 07/01/97 12/15/98
AAA | New Residential Wood Heaters | 08/31/93 12/23/98 | 07/01/98 06/11/99 | 12/31/98 03/30/00
BBB | Rubber Tire Manufacturing Industry | 11/24/98 12/23/98 | 07/01/98 06/11/99 | 12/31/98 03/30/00 | 07/01/97 12/15/98
DDD | Polymer Manufacturing Industry (VOC) | 11/24/98 12/23/98 | 07/01/98 06/11/99 | 12/31/98 03/30/00
FFF | Flexible Vinyl and Urethane Coating and Printing | 11/24/98 12/23/98 | 07/01/98 06/11/99 | 12/31/98 03/30/00 | 07/01/97 12/15/98
GGG | Equipment Leaks of VOC in Petroleum Refineries | 11/24/98 12/23/98 | 07/01/98 06/11/99 | 12/31/98 03/30/00 | 07/01/97 12/15/98
HHH | Synthetic Fiber Production Facilities | 11/24/98 12/23/98 | 07/01/98 06/11/99 | 12/31/98 03/30/00 | 07/01/97 12/15/98
III | SOCMI AIR Oxidation Unit Processes | 11/24/98 12/23/98 | 07/01/98 06/11/99 | 12/31/98 03/30/00 | 07/01/97 12/15/98
JJJ | Petroleum Dry Cleaners | 11/24/98 12/23/98 | 07/01/98 06/11/99 | 12/31/98 03/30/00 | 07/01/97 12/15/98
KKK | VOC Leaks from Onshore Natural Gas Processing Plants | 11/24/98 12/23/98 | 07/01/98 06/11/99 | 12/31/98 03/30/00 | 07/01/97 12/15/98
LLL | Onshore Natural Gas Processing: SO2 Emissions | 11/24/98 12/23/98 | 07/01/98 06/11/99 | 12/31/98 03/30/00 | 07/01/97 12/15/98
NNN | VOC Emissions from SOCMI Distillation Operations | 11/24/98 12/23/98 | 07/01/98 06/11/99 | 12/31/98 03/30/00 | 07/01/97 12/15/98
OOO | Nonmetallic Mineral Processing Plants | 11/24/98 12/23/98 | 07/01/98 06/11/99 | 12/31/98 03/30/00 | 07/01/97 12/15/98
PPP | Wool Fiberglass Insulation Manufacturing Plants | 11/24/98 12/23/98 | 07/01/98 06/11/99 | 12/31/98 03/30/00 | 07/01/97 12/15/98
QQQ | VOC Emissions from Petroleum Refinery Wastewater Systems | 11/24/98 12/23/98 | 07/01/98 06/11/99 | 12/31/98 03/30/00 | 07/01/97 12/15/98
RRR | VOC Emissions from SOCMI Reactor Processes | 11/24/98 12/23/98 | 07/01/98 06/11/99 | 12/31/98 03/30/00 |
SSS | Magnetic Tape Coating Facilities | 11/24/98 12/23/98 | 07/01/98 06/11/99 | 12/31/98 03/30/00 | 07/01/97 12/15/98
TTT | Surface Coating of Plastic Parts for Business Machines | 11/24/98 12/23/98 | 07/01/98 06/11/99 | 12/31/98 03/30/00 | 07/01/97 12/15/98
UUU | Calciners & Dryers in Mineral Industries | 11/24/98 12/23/98 | 07/01/98 06/11/99 | 12/31/98 03/30/00 | 07/01/97 12/15/98
VVV | Polymeric Coating of Supporting Substrates Facilities | 11/24/98 12/23/98 | 07/01/98 06/11/99 | 12/31/98 03/30/00 | 07/01/97 12/15/98
WWW | New Municipal Solid Waste Landfills Accepting Waste On or After May 30, 1991 | 11/24/98 12/23/98 | 07/01/98 06/11/99 | 12/31/98 03/30/00 | 07/01/96 12/15/98

Table II.—Delegation of Authority—Part 61 NESHAP—Region 7
Subpart | Source category | State of Iowa | State of Kansas | State of Missouri | State of Nebraska | Lincoln-Lancaster County | City of Omaha
A | General Provisions | 10/14/97 12/23/98 | 07/01/98 06/11/99 | 12/31/98 03/30/00 | 07/01/97 12/15/98 | 07/01/92 05/16/95 | 07/01/97 04/04/98
B | Radon Emissions from Underground Uranium Mines |  | 07/01/98 06/11/99 |  |  |  |
C | Beryllium | 10/14/97 12/23/98 | 07/01/98 06/11/99 | 12/31/98 03/30/00 | 07/01/97 12/15/98 | 07/01/92 05/16/95 | 07/01/97 04/04/98
D | Beryllium Rocket Motor Firing | 10/14/97 12/23/98 | 07/01/98 06/11/99 | 12/31/98 03/30/00 | 07/01/97 12/15/98 | 07/01/92 05/16/95 | 07/01/97 04/04/98
E | Mercury | 10/14/97 12/23/98 | 07/01/98 06/11/99 | 12/31/98 03/30/00 | 07/01/97 12/15/98 | 07/01/92 05/16/95 | 07/01/97 04/04/98
F | Vinyl Chloride | 10/14/97 12/23/98 | 07/01/98 06/11/99 | 12/31/98 03/30/00 | 07/01/97 12/15/98 | 07/01/92 05/16/95 | 07/01/97 04/04/98
J | Equipment Leaks (Fugitive Emission Sources) of Benzene | 10/14/97 12/23/98 | 07/01/98 06/11/99 | 12/31/98 03/30/00 | 07/01/97 12/15/98 | 07/01/92 05/16/95 | 07/01/97 04/04/98
L | Benzene Emissions from Coke By-Product Recovery Plants | 10/14/97 12/23/98 | 07/01/98 06/11/99 | 12/31/98 03/30/00 | 07/01/97 12/15/98 | 07/01/92 05/16/95 | 07/01/97 04/04/98
M | Asbestos | 10/14/97 12/23/98 | 07/01/98 06/11/99 | 12/31/98 03/30/00 | 07/01/97 12/15/98 | 07/01/92 05/16/95 | 07/01/97 04/04/98
N | Inorganic Arsenic Emissions from Glass Manufacturing Plants | 10/14/97 12/23/98 | 07/01/98 06/11/99 | 12/31/98 03/30/00 | 07/01/97 12/15/98 | 07/01/92 05/16/95 | 07/01/97 04/04/98
O | Inorganic Arsenic Emissions from Primary Copper Smelters | 10/14/97 12/23/98 | 07/01/98 06/11/99 | 12/31/98 03/30/00 | 07/01/97 12/15/98 | 07/01/92 05/16/95 | 07/01/97 04/04/98
P | Inorganic Arsenic Emissions from Arsenic Trioxide and Metallic Arsenic Production Facilities | 10/14/97 12/23/98 | 07/01/98 06/11/99 | 12/31/98 03/30/00 | 07/01/97 12/15/98 | 07/01/92 05/16/95 | 07/01/97 04/04/98
Q | Radon Emissions from Department of Energy Facilities |  | 07/01/98 06/11/99 |  |  |  |
R | Radon Emissions from Phosphogypsum Stacks |  | 07/01/98 06/11/99 |  |  |  |
T | Radon Emissions from the Disposal of Uranium Mill Tailings |  | 07/01/98 06/11/99 |  |  |  |
V | Equipment Leaks (Fugitive Emission Sources) | 10/14/97 12/23/98 | 07/01/98 06/11/99 | 12/31/98 03/30/00 | 07/01/97 12/15/98 | 07/01/92 05/16/95 | 07/01/97 04/04/98
W | Radon Emissions from Operating Mill Tailings |  | 07/01/98 06/11/99 |  |  |  |
Y | Benzene Emissions from Benzene Storage Vessels | 10/14/97 12/23/98 | 07/01/98 06/11/99 | 12/31/98 03/30/00 | 07/01/97 12/15/98 | 07/01/92 05/16/95 | 07/01/97 04/04/98
BB | Benzene Emissions from Benzene Transfer Operations | 10/14/97 12/23/98 | 07/01/98 06/11/99 | 12/31/98 03/30/00 | 07/01/97 12/15/98 | 07/01/92 05/16/95 | 07/01/97 04/04/98
FF | Benzene Waste Operations | 10/14/97 12/23/98 | 07/01/98 06/11/99 | 12/31/98 03/30/00 | 07/01/97 12/15/98 | 07/01/92 05/16/95 | 07/01/97 04/04/98

Table III.—Delegation of Authority—Part 63 NESHAP—Region 7
Subpart | Source category | State of Iowa | State of Kansas | State of Missouri | State of Nebraska | Lincoln-Lancaster County | City of Omaha
A | General Provisions | 06/29/99 04/26/00 | 07/01/96 06/11/99 | 12/31/96 03/30/00 | 07/01/97 12/15/98 | 07/01/97 08/11/98 | 07/01/97 04/01/98
B | Requirements for Control Technology Determinations for Major Sources in Accordance with Clean Air Act Section 112(j) | 06/29/99 04/26/00 | 07/01/96 06/11/99 | 12/31/96 03/30/00 |  |  |
D | Compliance Extensions for Early Reductions of Hazardous Air Pollutants | 06/29/99 04/26/00 | 07/01/96 06/11/99 | 12/31/96 03/30/00 | 12/29/92 12/15/98 | 11/21/94 08/11/98 | 12/29/92 04/01/98
F | Organic Hazardous Air Pollutants from the Synthetic Organic Chemical Manufacturing Industry | 06/29/99 04/26/00 | 07/01/96 06/11/99 | 12/31/96 03/30/00 |  | 07/01/97 08/11/98 |
G | Organic Hazardous Air Pollutants from the Synthetic Organic Chemical Manufacturing Industry for Process Vents, Storage Vessels, Transfer Operations, and Wastewater | 06/29/99 04/26/00 | 07/01/96 06/11/99 | 12/31/96 03/30/00 |  | 07/01/97 08/11/98 |
H | Organic Hazardous Air Pollutants for Equipment Leaks | 06/29/99 04/26/00 | 07/01/96 06/11/99 | 12/31/96 03/30/00 |  | 07/01/97 08/11/98 |
I | Organic Hazardous Air Pollutants for Certain Processes Subject to the Negotiated Regulation for Equipment Leaks | 06/29/99 04/26/00 | 07/01/96 06/11/99 | 12/31/96 03/30/00 |  | 07/01/97 08/11/98 |
L | Coke Oven Batteries | 06/29/99 04/26/00 | 07/01/96 06/11/99 | 12/31/96 03/30/00 |  |  |
M | Perchloroethyl ene Emissions from Dry Cleaning Facilities | 06/29/99 04/26/00 | 07/01/96 06/11/99 | 12/31/96 03/30/00 | 07/01/97 12/15/98 | 07/01/97 08/11/98 | 07/01/97 04/01/98
N | Chromium Emissions from Hard and Decorative Chromium Electroplating Anodizing Tanks | 06/29/99 04/26/00 | 07/01/96 06/11/99 | 12/31/96 03/30/00 | 07/01/97 12/15/98 | 07/01/97 08/11/98 | 07/01/97 04/01/98
O | Ethylene Oxide Sterilization Facilities | 06/29/99 04/26/00 | 07/01/96 06/11/99 | 12/31/96 03/30/00 |  | 07/01/97 08/11/98 |
Q | Industrial Process Cooling Towers | 06/29/99 04/26/00 | 07/01/96 06/11/99 | 12/31/96 03/30/00 | 07/01/97 12/15/98 | 07/01/97 08/11/98 | 07/01/97 04/01/98
R | Gasoline Distribution Facilities | 06/29/99 04/26/00 | 07/01/96 06/11/99 | 12/31/96 03/30/00 | 07/01/97 12/15/98 | 07/01/97 08/11/98 | 07/01/96 04/01/98
S | Pulp and Paper Non-Combustion | 06/29/99 04/26/00 |  | 12/31/98 03/30/00 |  |  |
T | Halogenated Solvent Cleaning | 06/29/99 04/26/00 | 07/01/96 06/11/99 | 12/31/96 03/30/00 | 07/01/97 12/15/98 | 7/01/97 08/11/98 | 07/01/97 04/01/98
U | Polymers and Resins Group I | 06/29/99 04/26/00 |  | 12/31/98 03/30/00 | 07/01/97 12/15/98 | 07/01/97 08/11/98 | 07/01/97 04/01/98
W | Epoxy Resins and Non-Nylon Polyamides Production | 06/29/99 04/26/00 | 07/01/96 06/11/99 | 12/31/98 03/30/00 | 07/01/97 12/15/98 | 07/01/97 08/11/98 | 07/01/97 04/01/98
X | Secondary Lead Smelting | 06/29/99 04/26/00 | 07/01/96 06/11/99 | 12/31/98 03/30/00 | 07/01/97 12/15/98 | 07/01/97 08/11/98 | 07/01/97 04/01/98
Y | Marine Tank Vessel Loading Operations | 06/29/99 04/26/00 | 07/01/96 06/11/99 | 12/31/98 03/30/00 |  |  |
AA/BB | Phosphoric Acid/Phosphate Fertilizers | 06/29/99 04/26/00 |  |  |  |  |
CC | Petroleum Refineries | 06/29/99 04/26/00 | 07/01/96 06/11/99 | 12/31/98 03/30/00 |  | 07/01/97 08/11/98 |
DD | Off-Site Waste Operations | 06/29/99 04/26/00 | 07/01/96 06/11/99 | 12/31/98 03/30/00 | 07/01/97 12/15/98 | 07/01/97 08/11/98 | 07/01/97 04/01/98
EE | Magnetic Tape Manufacturing | 06/29/99 04/26/00 | 07/01/96 06/11/99 | 12/31/96 03/30/00 |  | 07/01/97 08/11/98 |
GG | Aerospace Manufacturing and Rework Facilities | 06/29/99 04/26/00 | 07/01/96 06/11/99 | 12/31/96 03/30/00 | 07/01/97 12/15/98 | 07/01/97 08/11/98 | 07/01/97 04/01/98
HH | Oil and Natural Gas Production | 06/29/99 04/26/00 |  |  |  |  |
II | Shipbuilding and Ship Repair | 06/29/99 04/26/00 | 07/01/96 06/11/99 | 12/31/96 03/30/00 | 12/31/98 03/30/00 |  | 07/01/97 04/01/98
JJ | Wood Furniture Manufacturing Operations | 06/29/99 04/26/00 | 07/01/96 06/11/99 | 12/31/96 03/30/00 | 07/01/97 12/15/98 | 07/01/98 08/11/98 | 07/01/97 04/01/98
KK | Printing and Publishing Industry | 06/29/99 04/26/00 | 07/01/96 06/11/99 | 12/31/98 03/30/00 | 07/01/97 12/15/98 | 07/01/97 08/11/98 | 07/01/97 04/01/98
LL | Primary Aluminum Production | 06/29/99 04/26/00 | 07/01/96 06/11/99 | 12/31/98 03/30/00 |  |  |
OO | Tanks—Level 1 |  |  | 12/31/98 03/30/00 | 07/01/97 12/15/98 | 07/01/97 08/11/98 | 07/01/97 04/01/98
PP | Containers |  |  | 12/31/98 03/30/00 | 07/01/97 12/15/98 | 07/01/97 08/11/98 | 07/01/97 04/01/98
QQ | Surface Impoundments |  |  | 12/31/98 03/30/00 | 07/01/97 12/15/98 | 07/01/97 08/11/98 | 07/01/97 04/01/98
RR | Individual Drain Systems |  |  | 12/31/98 03/30/00 | 07/01/97 12/15/98 | 07/01/97 08/11/98 | 07/01/97 04/01/98
VV | Oil-Water Separators and Organic-Water Separators |  |  | 12/31/98 03/30/00 | 07/01/97 12/15/98 | 07/01/97 08/11/98 | 07/01/97 04/01/98
YY | Generic MACT | 06/29/99 04/26/00 |  |  |  |  |
CCC | Steel Pickling-HCL Process | 06/29/99 04/26/00 |  |  |  |  |
DDD | Mineral Wool Production | 06/29/99 04/26/00 |  |  |  |  |
EEE | Hazardous Waste Combustors |  |  | 12/31/98 03/30/00 |  |  |
GGG | Pharmaceutical Production | 06/29/99 04/26/00 |  | 12/31/98 03/30/00 |  |  |
HHH | Natural Gas Transmission and Storage | 06/29/99 04/26/00 |  |  |  |  |
III | Flexible Polyurethane Foam Production |  |  | 12/31/98 03/30/00 |  |  |
JJJ | Polymers and Resins Group IV | 06/29/99 04/26/00 | 07/01/96 06/11/99 | 12/31/98 03/30/00 | 07/01/97 12/15/98 | 07/01/97 08/11/98 | 07/01/97 04/01/98
LLL | Portland Cement Manufacturing | 06/29/99 04/26/00 |  |  |  |  |
MMM | Pesticide Active Ingredient Production | 06/29/99 04/26/00 |  |  |  |  |
NNN | Wool Fiberglass Manufacturing | 06/29/99 04/26/00 |  |  |  |  |
OOO | Polymers and Resins III, Amino Resins/ Phenolic Resins |  |  |  |  |  |
PPP | Polyether Polyols Production | 06/29/99 04/26/00 |  |  |  |  |
TTT | Primary Lead Smelting | 06/29/99 04/26/00 |  |  |  |  |
XXX | Ferroalloys Production | 06/29/99 04/26/00 |  |  |  |  |

Summary of This Action

After a review of the submissions, the Regional Administrator determined that delegation was appropriate for the source categories with the conditions set forth in the original NSPS and NESHAP delegation agreements, and the limitations in all applicable regulations, including 40 CFR Parts 60, 61, and 63.

You should refer to the applicable agreements and regulations referenced above to determine specific provisions which are not delegated.

All sources subject to the requirements of 40 CFR Parts 60, 61, and 63 are also subject to the equivalent requirements of the above-mentioned state or local agencies.

EPA's review of the pertinent regulations shows that they contain adequate and effective procedures for the implementation and enforcement of these Federal standards. This rule informs the public of delegations to the above-mentioned agencies.

I. What Are the Administrative Requirements Associated With This Document?

Under Executive Order 12866 (58 FR 51735, October 4, 1993), this action is not a “significant regulatory action” and is therefore not subject to review by the Office of Management and Budget. Because the agency has made a “good cause” finding that this action is not subject to notice-and-comment requirements under the APA or any other statute (see section I. of this document), it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999). This rule also is not subject to Executive Order 13045 (62 FR 19885, April 23, 1997), because it is not economically significant.

This minor action does not involve technical standards; thus, the requirements of section 12(d) of the National Technology Transfer and Advancement Act of 1995 (15 U.S.C. 272 note) do not apply. This rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act (5 U.S.C. 801 et et seq.), as added by the Small Business Regulatory Enforcement Fairness Act of 1996, generally provides that before a rule may take effect, the agency promulgating the rule must submit a rule report, which includes a copy of the rule, to each House of the Congress and to the Comptroller General of the United States. EPA will submit a report containing this rule and other required information to the United States Senate, the United States House of Representatives, and the Comptroller General of the United States prior to publication of the rule in the Federal Register. This action is not a “major rule” as defined by 5 U.S.C. 804(2).

List of Subjects in 40 CFR Parts 460, 461 and 463

Environmental protection, Air pollution control, Intergovernmental relations.

Authority: This rule is issued under the authority of sections 101, 110, 112, and 301 of the CAA, as amended (42 U.S.C. 7401, 7410, 7412, and 7601).

Dated: April 3, 2000.
William W. Rice,
Acting Regional Administrator, Region 7.

[FR Doc. 00-9663 Filed 4-17-00; 8:45 am]

BILLING CODE 6560-50-P